DEPARTMENT OF JUSTICE

Notice of Lodging of Stipulated Order Regarding Modification of Consent Decree in United States v. Kentucky Utilities Company Under the Clean Air Act

Under 28 CFR 50.7, notice is hereby given that on March 12, 2012, a proposed Stipulated Order Regarding Modification of Consent Decree (“Stipulated Order”) between Kentucky Utilities Company (“Kentucky Utilities”) and the United States in connection with Civil Action No. 5:07-CV-75-KSF, was lodged with the United States District Court for the Eastern District of Kentucky.

The original consent decree, which was entered by the court on March 17, 2009, resolved a complaint filed by the United States on March 14, 2007. The complaint had alleged that Kentucky Utilities violated Prevention of Significant Deterioration and other provisions of the Clean Air Act, 42 U.S.C. 7401, et seq., in connection with its operation of the E.W. Brown Generating Station in Mercer County, Kentucky. Under the consent decree, Kentucky Utilities agreed to perform various compliance measures at the E.W. Brown Generating Station, and committed to pay a civil penalty of $1.4 million and complete certain environmental mitigation projects at a cost of $3 million. For reasons beyond Kentucky Utilities' control, however, it could not perform one of the mitigation projects—spending $1,000,000 to retrofit diesel school buses in Kentucky with EPA-verified emissions control technologies. Therefore, the Stipulated Order outlines substitute mitigation projects that Kentucky Utilities shall perform to fulfill its obligations under the Consent Decree. Specifically, Kentucky Utilities shall spend approximately $400,000 on the procurement of plug-in electric vehicles for its corporate fleet, and approximately $600,000 on the replacement of one or more coal-fired boilers at Kentucky public schools. Finally, if needed, it will spend up to $200,000 in funding forest restoration activities by the United States Forest Service.

The Department of Justice will receive for a period of thirty (30) days from the date of this publication comments relating to the Stipulated Order. Comments should be addressed to the Assistant Attorney General, Environment and Natural Resources Division, and either emailed to pubcomment-ees.enrd@usdoj.gov or mailed to P.O. Box 7611, U.S. Department of Justice, Washington, DC 20044-7611, and should refer to United States of America v. Kentucky Utilities Company, Case No. 5:07-cv-00075, D.J. Ref. 90-5-2-1-08850.

During the public comment period, the Stipulated Order may be examined on the following Web site, http://www.usdoj.gov/enrd/Consent_Decrees.html, maintained by the Department of Justice. A copy of the Stipulated Order may also be obtained by mail from the Consent Decree Library, P.O. Box 7611, U.S. Department of Justice, Washington, DC 20044-7611 or by faxing or emailing a request to “Consent Decree Copy” (EESCDCopy.ENRD@usdoj.gov), fax no. (202) 514-0097, phone confirmation number (202) 514-5271. In requesting a copy from the Consent Decree Library, please enclose a check in the amount of $21.50 (@ 25 cents per page reproduction cost) payable to the U.S. Treasury or, if by email or fax, forward a check in that amount to the Consent Decree Library at the stated address.

Robert E. Maher, Jr.,
Assistant Section Chief, Environmental Enforcement Section, Environment and Natural Resources Division.

[FR Doc. 2012-6385 Filed 3-15-12; 8:45 am]

BILLING CODE 4410-15-P